DEPARTMENT OF AGRICULTURE

Forest Service

Notice of Proposed New Fee Site

AGENCY: Forest Service, Agriculture (USDA).

ACTION: Notice of proposed new fee site.

SUMMARY: The San Juan National Forest (Forest) proposes to charge new fees at the Chimney Rock National Monument. These sites are currently in use by the public, but the Forest Service is not currently charging a fee for their use. Funds from fees would be used for the continued operation and maintenance of these recreation sites. Fees are assessed based on the level of amenities and services provided, cost of operation and maintenance, market assessment, and public comment. Significant capital improvements made in the past few years, coupled with increased visitation, support a fee. A review of visitor use data and fee collection information for existing fee campgrounds and group campgrounds on the Forest demonstrate public need and demand for the variety of recreation opportunities these facilities provide.

DATES: If approved, the new fee would be implemented no earlier than six months following the publication of this notice in the Federal Register.

ADDRESSES: Pagosa Ranger District, Chimney Rock Fee Change Proposal, P.O. Box 310, Pagosa Springs, CO 81147, or by emailing Paul Blackman at paul.blackman@usda.gov.

FOR FURTHER INFORMATION CONTACT: Paul Blackman, District Recreation Staff, 970-264-1505 or paul.blackman@usda.gov. Information about proposed fee changes can also be found on the San Juan National Forest's website: https://www.fs.usda.gov/sanjuan.

SUPPLEMENTARY INFORMATION: The Federal Recreation Lands Enhancement Act (Title VII, Pub. L. 108-447) directed the Secretary of Agriculture to publish a six-month advance notice in the Federal Register whenever new recreation fee areas are established. Fees are based on the level of amenities and services provided, the cost of operations and maintenance, and the market assessment of similar types of opportunities within the geographic area.

The current fee is $12-$16 per adult and $6-$8 per child which is charged by the Chimney Rock Interpretive Association. The proposal will establish a new Forest Service fee of $20 per vehicle for five days and $10 per motorcycle for five days. Revenue from these fees will help the Forest Service and its partner, Chimney Rock Interpretive Association, to provide services and amenities so visitors can continue to access and enjoy a unique and high-quality monument experience. Revenue would be directed primarily towards infrastructure maintenance and repairs, as well as Forest Service activities such as managing parking, maintaining trails, providing education, protecting cultural resources, and providing other visitor services.

Once public involvement is complete, these new fees will be reviewed and approved by the Rocky Mountain Regional Office prior to a final decision and implementation.

Dated: September 29, 2021.
Sandra Watts,
Acting Associate Deputy Chief, National Forest System.

[FR Doc. 2021-21570 Filed 10-4-21; 8:45 am]

BILLING CODE 3411-15-P